DEPARTMENT OF ENERGY

Federal Energy Regulatory Commission

[Project No. 14383-002]

Whitewater Creek Hydroelectric Project; Notice of Cultural Resource Meeting

Project Name and Number: Whitewater Creek Hydroelectric Project No. 14383-002.

Date and Time of Meeting: February 11, 2016; 1:00 p.m. Eastern Standard Time.

Place: Telephone conference with Terracon and the Oregon State Historic Preservation Officer (SHPO).

FERC Contact: Laura Washington, Laura.Washington@ferc.gov or (202) 502-6072.

Purpose of Meeting: Cultural resources consultation to discuss Oregon SHPO comments concerning the cultural resources study report with Whitewater Creek and FERC.

A summary of the meeting will be prepared and filed in the Commission's public file for the project.

All local, state, and federal agencies, Indian tribes, and other interested parties are invited to participate by phone. Please contact Laura Washington at Laura.Washington@ferc.gov or (202) 502-6072 by close of business February 9, 2016, to R.S.V.P. and to receive specific instructions on how to participate.

Dated: January 28, 2016.
Nathaniel J. Davis, Sr.,
Deputy Secretary.

[FR Doc. 2016-01959 Filed 2-2-16; 8:45 am]

BILLING CODE 6717-01-P